DEPARTMENT OF THE INTERIOR

Bureau of Land Management

[LLNM920000 L13100000.PP0000 212L1109AF]

Proposed Reinstatement of Terminated Oil and Gas Lease NMNM 119276, New Mexico

AGENCY: Bureau of Land Management, Interior.

ACTION: Notice of proposed reinstatement.

SUMMARY: In accordance with the Mineral Leasing Act of 1920, as amended, EOG Y Resources Inc., et al., timely filed a petition for reinstatement of competitive oil and gas lease NMNM 119276 in Lea County, New Mexico. The lessee paid the required rentals accruing from the date of termination. No lease was issued that affects these lands. The Bureau of Land Management (BLM) proposes to reinstate the lease.

FOR FURTHER INFORMATION CONTACT: Julieann Serrano, Supervisory Land Law Examiner, Branch of Adjudication, Bureau of Land Management New Mexico State Office, 301 Dinosaur Trail, Santa Fe, NM 87508, (505) 954-2149, jserrano@blm.gov. Persons who use a telecommunications device for the deaf (TDD) may call the Federal Relay Service (FRS) at 1-800-877-8339 to contact Ms. Serrano during normal business hours. The FRS is available 24 hours a day, 7 days a week, to leave a message or question. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the lease and the cost for publishing this notice.

The lessee met the requirements for reinstatement of the lease per Sec. 31(d) and (e) of the Mineral Leasing Act of 1920. The BLM is proposing to reinstate the lease, effective the date of termination subject to the:

• Original terms and conditions of the lease;

• Additional and amended stipulations;

• Increased rental of $10 per acre;

• Increased royalty of 16⅔ percent; and

• $151 cost of publishing this notice.

Authority: 43 CFR 3108.2-3.

Julieann Serrano,
Supervisory Land Law Examiner.

[FR Doc. 2021-01256 Filed 1-19-21; 8:45 am]

BILLING CODE 4310-FB-P